ENVIRONMENTAL PROTECTION AGENCY

40 CFR Part 52

[Docket No. EPA-R02-OAR-2008-0659, FRL-8757-6]

Approval and Promulgation of Implementation Plans; New Jersey; Diesel Idling Rule Revisions

AGENCY: Environmental Protection Agency (EPA).

ACTION: Final rule.

SUMMARY: The Environmental Protection Agency (EPA) is approving a state implementation plan revision submitted by New Jersey to revise its rules regarding the idling of diesel-powered vehicles. Specifically, the State's implementation plan revision revises the exceptions to and exemptions from the State's existing three-minute idling rule. The intended effect of this action is to approve, as consistent with section 110(a)(2) of the Clean Air Act, a control strategy that will help New Jersey achieve attainment of the National Ambient Air Quality Standards for ozone and fine particulate matter.

DATES: Effective Date: This rule is effective on May 18, 2009.

ADDRESSES: EPA has established a docket for this action under Docket ID No. EPA-R02-OAR-2008-0659. All documents in the docket are listed on the http://www.regulations.gov Web site. Although listed in the index, some information is not publicly available, e.g., CBI or other information whose disclosure is restricted by statute. Certain other material, such as copyrighted material, is not placed on the Internet and will be publicly available only in hard copy form. Publicly available docket materials are available either electronically through http://www.regulations.gov or in hard copy at the Environmental Protection Agency, Region II Office, Air Programs Branch, 290 Broadway, 25th Floor, New York, New York 10007-1866. This Docket Facility is open from 8:30 a.m. to 4:30 p.m., Monday through Friday, excluding legal holidays. The Docket telephone number is 212-637-4249.

FOR FURTHER INFORMATION CONTACT: Matthew Laurita, Air Programs Branch, Environmental Protection Agency, 290 Broadway, 25th Floor, New York, New York 10007-1866, (212) 637-3895.

SUPPLEMENTARY INFORMATION:

Table of Contents

I. Description of the State Implementation Plan (SIP) Revision

II. Comments on the Proposed Rulemaking

III. Final EPA Action

IV. Statutory and Executive Order Reviews

I. Description of the State Implementation Plan (SIP) Revision

A. What did New Jersey submit?

On July 2, 2007, New Jersey promulgated amendments to Title 7, Chapter 27, Subchapter 14, “Control and Prohibition of Air Pollution from Diesel-Powered Motor Vehicles,” of the New Jersey Administrative Code, that limit the amount of time that engines of diesel-powered motor vehicles may idle. New Jersey's original diesel idling rule, adopted on December 2, 1985, prohibits any person from allowing the engine of a diesel-powered motor vehicle to idle for more than three consecutive minutes. However, it also provides exceptions to and exemptions from the three-minute limit. New Jersey's July 2007 rule revision adds, deletes, and revises certain exceptions and exemptions, with the overall goal of further limiting air emissions from idling diesel-powered vehicles within New Jersey. This revised rule became effective on July 2, 2007.

On September 13, 2007, New Jersey submitted a state implementation plan (SIP) revision to EPA, seeking federal approval of its revised diesel idling regulation. EPA has determined that New Jersey's SIP revision submittal meets the requirements of section 110 of the Act. EPA's approval of New Jersey's diesel idling rule makes it Federally-enforceable, further ensuring that planned emission reductions will continue to take place. For further information on New Jersey's diesel idling rule see the October 2, 2008, Proposed Rulemaking (73 FR 57272).

II. Comments on the Proposed Rulemaking

EPA received no comments on the Proposed Rulemaking, published in the October 2, 2008, Federal Register (73 FR 57272).

III. Final EPA Action

EPA is approving the revisions to New Jersey's diesel idling rule as part of New Jersey's ozone and particulate matter SIPs. Approval of New Jersey's revised diesel idling rule further ensures that planned emissions reductions attributable to this program will be achieved. The State's revised idling rule was promulgated on July 2, 2007, effective on July 2, 2007, and is codified in Title 7, Chapter 27, Subchapter 14 of the New Jersey Administrative Code, sections 14.1 (“Definitions”), 14.2 (“Applicability”) and 14.3 (“General prohibitions”).

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 16, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Particulate matter, Reporting and recordkeeping requirements.

Dated: April 2, 2009.
Barbara A. Finazzo,
Acting Regional Administrator, Region 2.

Part 52, chapter I, title 40 of the Code of Federal Regulations is amended as follows:

PART 52—[AMENDED]

1. The authority citation for part 52 continues to read as follows:

Authority: 42 U.S.C. 7401 et seq.

Subpart FF—New Jersey

2. Section 52.1570 is amended by adding new paragraph (c)(87) to read as follows:

§ 52.1570 Identification of plan.

* * * * *

(c) * * *

* * * * *

(87) Revisions to the State Implementation Plan submitted on September 13, 2007, by the New Jersey Department of Environmental Protection which consists of the State's revised diesel idling rule.

(i) Incorporation by reference:

(A) Regulation Subchapter 14 of Title 7, Chapter 27 of the New Jersey Administrative Code, entitled “Control and Prohibition of Air Pollution from Diesel-Powered Motor Vehicles,” section 14.1, effective on July 2, 2007, section 14.2, effective on September 15, 1997, and section 14.3, effective on July 2, 2007.

* * * * *

3. Section 52.1605 is amended by revising the entry for Subchapter 14 under Title 7, Chapter 27 to read as follows:

§ 52.1605 EPA-approved New Jersey regulations.

State regulation | State effective date | EPA approved date | Comments
| * * * * * * *
Title 7, Chapter 27
| * * * * * * *
Subchapter 14, “Control and Prohibition of Air Pollution from Diesel-Powered Motor Vehicles” |  |  | On September 15, 1997, section 14.2 was re-numbered to 14.6. The State did not submit this change as a SIP revision. Therefore, the July 1, 1985, version of section 14.2 will continue to be the EPA-approved regulation.
Sections 14.1-14.3 | July 1, 1985 | June 13, 1986. |
Section 14.1 | July 2, 2007 | April 17, 2009 [Insert Federal Register page citation].
Section 14.2 | September 15, 1997 | April 17, 2009 [Insert Federal Register page citation].
Section 14.3 | July 2, 2007 | April 17, 2009 [Insert Federal Register page citation].
| * * * * * * *

[FR Doc. E9-8762 Filed 4-16-09; 8:45 am]

BILLING CODE 6560-50-P